DEPARTMENT OF HEALTH AND HUMAN SERVICES

Centers for Disease Control and Prevention

[30Day-22-0210]

Agency Forms Undergoing Paperwork Reduction Act Review

In accordance with the Paperwork Reduction Act of 1995, the Centers for Disease Control and Prevention (CDC) has submitted the information collection request titled List of Ingredients Added to Tobacco in the Manufacture of Cigarette Products to the Office of Management and Budget (OMB) for review and approval. CDC previously published a “Proposed Data Collection Submitted for Public Comment and Recommendations” notice on September 27, 2021 to obtain comments from the public and affected entities. CDC did not receive comments related to the FRN. This notice serves to allow an additional 30 days for public and affected entities' comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

List of Ingredients Added to Tobacco in the Manufacture of Cigarette Products (OMB Control No. 0920-0210, Exp. 04/30/2022)—Extension—National Center for Chronic Disease Prevention and Health Promotion (NCCDPHP), Centers for Disease Control and Prevention (CDC).

Background and Brief Description

Cigarette smoking is the leading preventable cause of premature death and disability in the U.S. Each year more than 480,000 deaths occur as the result of cigarette smoking-related diseases. The CDC, Office on Smoking and Health (OSH) has the primary responsibility for the HHS smoking and health program. Since 1986, as required by the Comprehensive Smoking Education Act of 1984, which amended the Federal Cigarette Labeling and Advertising Act (15 U.S.C. 1335a), CDC has collected information about the ingredients used in cigarette products. Respondents are commercial cigarette manufacturers, packagers, or importers (or their representatives), who are required by the CSEA to submit ingredient reports to HHS on an annual basis.

Respondents are not required to submit specific forms; however, they are required to submit a list of all ingredients used in their products. CDC requires the ingredient report to be submitted by chemical name and Chemical Abstract Service (CAS) Registration Number, consistent with accepted reporting practices for other companies currently required to report ingredients added to other consumer products.

Ingredient reports are due annually on March 31. Information is submitted to CDC by mailing or faxing a written report on the respondent's letterhead. All faxed lists should be followed up with a mailed original. Electronic mail submissions are not accepted. Mail Annual Ingredient submissions to Attention: FCLAA Program Manager, Office on Smoking and Health, National Center for Chronic Disease Prevention and Health Promotion, Centers for Disease Control and Prevention, 4770 Buford Highway NE, MS S107-7, Atlanta, GA 30341-3717.

Upon receipt and verification of the annual ingredient report, OSH issues a Certificate of Compliance to the respondent. CDC also uses the information to report to Congress (as deemed appropriate) the health effects of these ingredients.

CDC requests OMB approval for an estimated 358 annual burden hours. OMB approval is requested for three years. There are no costs to respondents other than their time.

Estimated Annualized Burden Hours
Type of respondents | Form name | Number of respondents | Number of responses per respondent | Average burden per response (in hours)
Business Entities | N/A | 55 | 1 | 6.5

Jeffrey M. Zirger,
Lead, Information Collection Review Office, Office of Scientific Integrity, Office of Science, Centers for Disease Control and Prevention.

[FR Doc. 2022-09782 Filed 5-5-22; 8:45 am]

BILLING CODE 4163-18-P